DEPARTMENT OF ENERGY

Federal Energy Regulatory Commission

Combined Notice of Filings #1

May 19, 2010.

Take notice that the Commission received the following electric corporate filings:

Docket Numbers: EC10-70-000.

Applicants: Mirant Corporation, RRI Energy, Inc.

Description: Mirant Corporation et al. submits joint application for approval under section 203 of the Federal Power Act.

Filed Date: 05/18/2010.

Accession Number: 20100518-0203.

Comment Date: 5 p.m. Eastern Time on Thursday, June 17, 2010.

Take notice that the Commission received the following electric rate filings:

Docket Numbers: ER97-4084-011.

Applicants: Denver City Energy Associates, L.P.

Description: Denver City Energy Associates, LP submits Rate Schedule FERC No 1 et al.

Filed Date: 05/17/2010.

Accession Number: 20100517-0045.

Comment Date: 5 p.m. Eastern Time on Monday, June 7, 2010.

Docket Numbers: ER09-1397-002.

Applicants: Southwest Power Pool, Inc.

Description: Southwest Power Pool, Inc submits clean copy of the Revised Agreements and redlined copies of the modified sheets of the Revised Agreements as Exhibit II.

Filed Date: 05/18/2010.

Accession Number: 20100519-0201.

Comment Date: 5 p.m. Eastern Time on Tuesday, June 8, 2010.

Docket Numbers: ER10-762-001.

Applicants: Southwest Power Pool, Inc.

Description: Southwest Power Pool, Inc. submits Third Revised Service Agreement No 1517 et al., effective 1/14/10.

Filed Date: 05/18/2010.

Accession Number: 20100518-0217.

Comment Date: 5 p.m. Eastern Time on Tuesday, June 8, 2010.

Docket Numbers: ER10-1268-000.

Applicants: South Carolina Electric & Gas Company.

Description: South Carolina Electric & Gas Company submits proposed revision to its formula rate for transmission service to change the depreciation rates in that formula, effective June 1, 2010.

Filed Date: 05/17/2010.

Accession Number: 20100518-0206.

Comment Date: 5 p.m. Eastern Time on Monday, June 7, 2010.

Docket Numbers: ER10-1269-000.

Applicants: Southwest Power Pool, Inc.

Description: Southwest Power Pool, Inc submits revision to its Open Access Transmission Tariff to incorporate a modified transmission planning process etc, effective July 17, 2010.

Filed Date: 05/17/2010.

Accession Number: 20100518-0205.

Comment Date: 5 p.m. Eastern Time on Monday, June 7, 2010.

Docket Numbers: ER10-1273-000.

Applicants: Midwest Independent Transmission System, Great River Energy.

Description: Midwest Independent Transmission System Operator, Inc et al. submits Joint Pricing Zone Revenue Allocation Agreement, effective 5/19/10.

Filed Date: 05/18/2010.

Accession Number: 20100519-0202.

Comment Date: 5 p.m. Eastern Time on Tuesday, June 8, 2010.

Docket Numbers: ER10-1274-000.

Applicants: Consumers Energy Company.

Description: Consumers Energy Company submits tariff filing per 35.12: Power Sales Tariff Of Consumers Energy Company to be effective 5/19/2010.

Filed Date: 05/19/2010.

Accession Number: 20100519-5016.

Comment Date: 5 p.m. Eastern Time on Wednesday, June 9, 2010.

Docket Numbers: ER10-1275-000.

Applicants: The Detroit Edison Company.

Description: The Detroit Edison Company submits tariff filing per 35.12: Detroit Edison—Baseline Rate Schedule Filing to be effective 5/21/2010.

Filed Date: 05/19/2010.

Accession Number: 20100519-5017.

Comment Date: 5 p.m. Eastern Time on Wednesday, June 9, 2010.

Docket Numbers: ER10-1276-000.

Applicants: Consumers Energy Company.

Description: Consumers Energy Company submits tariff filing per 35: Wholesale Market-Based Rate Tariff For Sales Of Capacity & Energy to be effective 5/19/2010.

Filed Date: 05/19/2010.

Accession Number: 20100519-5018.

Comment Date: 5 p.m. Eastern Time on Wednesday, June 9, 2010.

Docket Numbers: ER10-1277-000.

Applicants: DTE East China, LLC.

Description: DTE East China, LLC submits tariff filing per 35: DTE East China—Compliance Filing to be effective 5/14/2010.

Filed Date: 05/19/2010.

Accession Number: 20100519-5044.

Comment Date: 5 p.m. Eastern Time on Wednesday, June 9, 2010.

Docket Numbers: ER10-1278-000.

Applicants: Southern California Edison Company.

Description: Southern California Edison Company submits letter agreement.

Filed Date: 05/19/2010.

Accession Number: 20100519-0208.

Comment Date: 5 p.m. Eastern Time on Wednesday, June 9, 2010.

Docket Numbers: ER10-1279-000.

Applicants: Southern Company Services, Inc.

Description: Southern Companies submits an amendment to the Network Integration Transmission Service Agreement.

Filed Date: 05/19/2010.

Accession Number: 20100519-0207.

Comment Date: 5 p.m. Eastern Time on Wednesday, June 9, 2010.

Docket Numbers: ER10-1280-000.

Applicants: Southern Company Services, Inc.

Description: Southern Companies submits an amendment to the Network Integration Transmission Service Agreement.

Filed Date: 05/19/2010.

Accession Number: 20100519-0206.

Comment Date: 5 p.m. Eastern Time on Wednesday, June 9, 2010.

Take notice that the Commission received the following electric securities filings:

Docket Numbers: ES10-39-000.

Applicants: PHI Service Company.

Description: Supplemental Information of PHI Service Company on behalf of Delmarva Power & Light Company and Potomac Electric Power Company.

Filed Date: 05/18/2010.

Accession Number: 20100518-5062.

Comment Date: 5 p.m. Eastern Time on Friday, May 28, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, D.C. There is an eSubscription link on the web site that enables subscribers to receive email notification when a document is added to a subscribed docket(s). For assistance with any FERC Online service, please email FERCOnlineSupport@ferc.gov. or call (866) 208-3676 (toll free). For TTY, call (202) 502-8659.

Nathaniel J. Davis, Sr.,
Deputy Secretary.

[FR Doc. 2010-12704 Filed 5-26-10; 8:45 am]

BILLING CODE 6717-01-P